NUCLEAR REGULATORY COMMISSION

[NRC-2023-0134]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by September 7, 2023. A request for a hearing or petitions for leave to intervene must be filed by October 10, 2023. This monthly notice includes all amendments issued, or proposed to be issued, from June 23, 2023, to July 20, 2023. The last monthly notice was published on July 11, 2023.

ADDRESSES: You may submit comments by any of the following methods; however, the NRC encourages electronic comment submission through the Federal rulemaking website:

• Federal rulemaking website: Go to https://www.regulations.gov and search for Docket ID NRC-2023-0134. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001, telephone: 301-415-1118; email: Karen.Zeleznock@nrc.gov.

SUPPLEMENTARY INFORMATION:

I. Obtaining Information and Submitting Comments

A. Obtaining Information

Please refer to Docket ID NRC-2023-0134, facility name, unit number(s), docket number(s), application date, and subject when contacting the NRC about the availability of information for this action. You may obtain publicly available information related to this action by any of the following methods:

• Federal Rulemaking website: Go to https://www.regulations.gov and search for Docket ID NRC-2023-0134.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0134, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Calvert Cliffs Nuclear Power Plant, Units 1 and 2; Calvert County, MD
Docket Nos | 50-317, 50-318.
Application date | June 13, 2023.
ADAMS Accession No | ML23164A170.
Location in Application of NSHC | Pages 2-4 of Attachment 1.
Brief Description of Amendment | The proposed amendments adopt the NRC-approved Technical Specification Task Force (TSTF) Improved Standard Technical Specifications Change Traveler TSTF-59-A, “Incorporate [Combustion Engineering] NPSD-994 Recommendations into the [Safety Injection Tank] Specification,” Revision 1 which would modify Technical Specification 3.5.1 Condition A to add the condition where one safety injection tank is inoperable due to the inability to verify level or pressure. The changes also extend the Condition B allowed outage time from 1 hour to 24 hours when one safety injection tank is inoperable for reasons other than Condition A.
Proposed Determination | NSHC.
Name of Attorney for Licensee, Mailing Address | Jason Zorn, Associate General Counsel, Constellation Energy Generation, 101 Constitution Ave. NW, Suite 400 East, Washington, DC 20001.
NRC Project Manager, Telephone Number | Sujata Goetz, 301-415-8004.
Constellation Energy Generation, LLC; Quad Cities Nuclear Power Station, Units 1 and 2; Rock Island County, IL
Docket Nos | 50-254, 50-265.
Application date | June 8, 2023.
ADAMS Accession No | ML23159A249.
Location in Application of NSHC | Pages 7-8 of Attachment 1.
Brief Description of Amendment | The proposed amendments request would modify the Quad Cities Nuclear Power Station, Units 1 and 2, technical specification requirements to permit the use of risk informed completion times in accordance with Technical Specification Task Force (TSTF) Traveler TSTF-505, Revision 2, “Provide Risk-Informed Extended Completion Times—RITSTF Initiative 4b.”
Proposed Determination | NSHC.
Name of Attorney for Licensee, Mailing Address | Jason Zorn, Associate General Counsel, Constellation Energy Generation, 4300 Winfield Road, Warrenville, IL 60555.
NRC Project Manager, Telephone Number | Robert Kuntz, 301-415-3733.
Constellation Energy Generation, LLC; Quad Cities Nuclear Power Station, Units 1 and 2; Rock Island County, IL
Docket Nos | 50-254, 50-265.
Application date | June 8, 2023.
ADAMS Accession No | ML23159A253.
Location in Application of NSHC | Pages 23-25 of the Enclosure.
Brief Description of Amendment | The proposed amendments would modify the Quad Cities Nuclear Power Station, Units 1 and 2, licensing basis by the addition of a License Condition to implement the provisions of 10 CFR 50.69, “Risk-informed categorization and treatment of structures, systems and components for nuclear power reactors.”
Proposed Determination | NSHC.
Name of Attorney for Licensee, Mailing Address | Jason Zorn, Associate General Counsel, Constellation Energy Generation, 4300 Winfield Road, Warrenville, IL 60555.
NRC Project Manager, Telephone Number | Robert Kuntz, 301-415-3733.
Duke Energy Carolinas, LLC; Catawba Nuclear Station, Units 1 and 2; York County, SC
Docket Nos | 50-413, 50-414.
Application date | June 19, 2023.
ADAMS Accession No | ML23170A015.
Location in Application of NSHC | Pages 9-10 of the Enclosure.
Brief Description of Amendment | The proposed amendments would revise Technical Specification (TS) 3.7.11, “Control Room Area Chilled Water System (CRACWS),” to modify the TS Actions for two inoperable CRACWS trains. The proposed change provides 24 hours to restore one CRACWS train to operable status provided mitigating actions ensure the control room temperature is controlled.
Proposed Determination | NSHC.
Name of Attorney for Licensee, Mailing Address | Tracey Mitchell LeRoy, Deputy General Counsel, Duke Energy Corporation, 4720 Piedmont Row Dr., Charlotte, NC 28210.
NRC Project Manager, Telephone Number | Shawn Williams, 301-415-1009.
Energy Harbor Nuclear Corp. and Energy Harbor Nuclear Generation LLC; Perry Nuclear Power Plant, Unit 1; Lake County, OH
Docket No | 50-440.
Application date | June 5, 2023.
ADAMS Accession No | ML23156A550.
Location in Application of NSHC | Pages 7-9 of Attachment 1.
Brief Description of Amendment | The proposed amendment would adopt Technical Specifications Task Force (TSTF) Traveler TSTF-276-A, Revision 2, “Revise DG [Diesel Generator] full load rejection test.” The proposed change would modify the notes to Technical Specification (TS) Surveillance Requirements (SR) 3.8.1.9, DG single largest load rejection test, 3.8.1.10, DG full load rejection test, and 3.8.1.14, DG endurance and margin test, to require that these SRs be performed at a specified power factor of less than or equal to 0.9 with clarifications addressing situations when the power factor cannot be achieved.
Proposed Determination | NSHC.
Name of Attorney for Licensee, Mailing Address | Rick Giannantonio, General Counsel, Energy Harbor Nuclear Corp., 168 E Market Street, Akron, OH 44308-2014.
NRC Project Manager, Telephone Number | Scott Wall, 301-415-2855.
Entergy Operations, Inc., System Energy Resources, Inc., Cooperative Energy, A Mississippi Electric Cooperative, and Entergy Mississippi, LLC; Grand Gulf Nuclear Station, Unit 1; Claiborne County, MS
Docket No | 50-416.
Application date | June 6, 2023.
ADAMS Accession No | ML23158A043.
Location in Application of NSHC | Pages 7-9 of Attachment 1.
Brief Description of Amendment | The proposed amendment would modify technical specifications to adopt Technical Specifications Task Force (TSTF) Traveler TSTF-505, Revision 2, “Provide Risk-Informed Extended Completion Times—RITSTF [Risk-Informed TSTF] Initiative 4b” (ML18183A493) for Grand Gulf Nuclear Station, Unit 1. The NRC staff provided a model safety evaluation for this TSTF on November 21, 2018 (ADAMS Accession No. ML18267A259).
Proposed Determination | NSHC.
Name of Attorney for Licensee, Mailing Address | Anna Vinson Jones, Assistant General Counsel/Legal Department, Entergy Operations, Inc., 101 Constitution Avenue NW, Washington, DC 20001.
NRC Project Manager, Telephone Number | Siva Lingam, 301-415-1564.
Entergy Operations, Inc., System Energy Resources, Inc., Cooperative Energy, A Mississippi Electric Cooperative, and Entergy Mississippi, LLC; Grand Gulf Nuclear Station, Unit 1; Claiborne County, MS
Docket No | 50-416
Application date | June 6, 2023.
ADAMS Accession No | ML23158A044
Location in Application of NSHC | Pages 23-25 of the Enclosure.
Brief Description of Amendment | The proposed amendment would modify the licensing basis for Grand Gulf Nuclear Station, Unit 1. The proposed change would add a license condition to allow the implementation of the provisions of 10 CFR 50.69, “Risk-informed categorization and treatment of structures, systems and components for nuclear power reactors.” The provisions of 10 CFR 50.69 allow adjustment of the scope of equipment subject to special treatment controls such as quality assurance, testing, inspection, condition monitoring, assessment, and evaluation. For equipment determined to be of low safety significance, alternative treatment requirements can be implemented in accordance with this regulation. For equipment determined to be of high safety significance, requirements will not be changed or will be enhanced. This allows improved focus on equipment that has high safety significance resulting in improved plant safety.
Proposed Determination | NSHC.
Name of Attorney for Licensee, Mailing Address | Anna Vinson Jones, Assistant General Counsel/Legal Department, Entergy Operations, Inc., 101 Constitution Avenue NW, Washington, DC 20001.
NRC Project Manager, Telephone Number | Siva Lingam, 301-415-1564.
Southern Nuclear Operating Company, Inc.; Vogtle Electric Generating Plant, Unit 3; Burke County, GA
Docket No | 52-025.
Application date | May 25, 2023.
ADAMS Accession No | ML23145A265.
Location in Application of NSHC | Pages 9-10 of the Enclosure.
Brief Description of Amendment | The requested amendment proposes an exception to Regulatory Guide 1.163 that would allow the specified frequency for the first periodic Type A integrated leak rate test to be performed prior to the earlier of initial Mode 4 entry for Unit 3 Cycle 2 and midnight on May 31, 2025.
Proposed Determination | NSHC.
Name of Attorney for Licensee, Mailing Address | Stanford Blanton, Balch & Bingham LLP, P.O. Box 306, Birmingham, AL 35201.
NRC Project Manager, Telephone Number | Cayetano Santos, 301-415-7270.
Tennessee Valley Authority; Watts Bar Nuclear Plant, Units 1 and 2; Rhea County, TN
Docket Nos | 50-390, 50-391.
Application date | June 28, 2023.
ADAMS Accession No | ML23179A086.
Location in Application of NSHC | Pages E4-E6 of the Enclosure.
Brief Description of Amendments | The proposed amendments would revise Watts Bar Nuclear Plant, Units 1 and 2, Technical Specification (TS) 3.8.3, “Diesel Fuel Oil, Lube Oil, and Starting Air,” by relocating the current stored diesel fuel oil and lube oil numerical volume requirements from the TS to the TS Bases so that it may be modified under licensee control. Technical Specification 3.8.3, Conditions A and B would be modified so that they are entered when the stored diesel fuel oil and lube oil inventory. respectively, is less than a 7-day supply, but greater than a 6-day supply for one or more diesel generators. Additionally, Surveillance Requirements 3.8.3.1 and 3.8.3.2 would be revised so they verify the stored diesel fuel oil and lube oil inventory, respectively, are greater than or equal to a 7-day supply for each diesel generator. The requested changes are in accordance with Technical Specification Task Force (TSTF) Traveler TSTF-501-A, Revision 1, “Relocate Stored Fuel Oil and Lube Oil Volume Values to Licensee Control.” The proposed amendments would also make editorial changes to TS 3.8.3 to be consistent with the Westinghouse Standard Technical Specifications and TSTF-501-A, Revision 1. Lastly, the proposed amendments would revise TS 3.8.1, “AC Sources—Operating,” Surveillance Requirement 3.8.1.4 by relocating the skid-mounted day tank specific numerical volume requirement from the TS to the TS Bases and replacing it with a requirement to maintain a minimum 1-hour supply of fuel oil.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Vistra Operations Company LLC; Comanche Peak Nuclear Power Plant, Unit Nos. 1 and 2; Somervell County, TX
Docket Nos | 50-445, 50-446.
Application date | April 19, 2023, as supplemented by letter dated June 8, 2023.
ADAMS Accession No | ML23109A333, ML23159A200.
Location in Application of NSHC | Pages 18-20 of the Enclosure.
Brief Description of Amendments | The proposed amendments would add a license condition to allow for the implementation of the provisions of 10 CFR 50.69, “Risk-informed categorization and treatment of structures, systems and components for nuclear power reactors.”
Proposed Determination | NSHC.
Name of Attorney for Licensee, Mailing Address | Timothy P. Matthews, Esq., Morgan, Lewis and Bockius, 1111 Pennsylvania Avenue NW, Washington, DC 20004.
NRC Project Manager, Telephone Number | Dennis Galvin, 301-415-6256.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2; Will County, IL
Docket Nos | 50-456, 50-457.
Amendment Date | July 13, 2023.
ADAMS Accession No | ML23087A076.
Amendment No(s) | 232 (Unit 1) and 232 (Unit 2).
Brief Description of Amendments | The amendments revised Technical Specifications Surveillance Requirement 3.7.9.2 to allow an ultimate heat sink temperature of less than or equal to 102.8 degrees Fahrenheit (°F) until September 30, 2023.
Public Comments Received as to Proposed NSHC (Yes/No) | No.
Constellation Energy Generation, LLC; Dresden Nuclear Power Station, Units 2 and 3; Grundy County, IL
Docket Nos | 50-237, 50-249.
Amendment Date | July 6, 2023.
ADAMS Accession No | ML23144A314.
Amendment Nos | 281 (Unit 2) and 274 (Unit 3).
Brief Description of Amendments | The amendments support the transition from Framatome ATRIUM 10XM fuel to Global Nuclear Fuel—Americas, LLC (GNF) GNF3 fuel at Dresden Nuclear Power Station. Specifically, the amendments revised Technical Specification 5.6.5, “Core Operating Limits Report (COLR),” paragraph b, to remove eight Westinghouse topical reports that will no longer be used and add two reports that support the General Electric Standard Application for Reactor Fuel analysis methodology to the list of approved methods to be used in determining the core operating limits in the COLR. The amendments approved the use of Framatome RODEX2A methodology with an additional thermal conductivity degradation penalty in mixed core thermal-mechanical calculations.
Public Comments Received as to Proposed NSHC (Yes/No) | No.
DTE Electric Company; Fermi, Unit 2; Monroe County, MI
Docket No | 50-341.
Amendment Date | June 26, 2023.
ADAMS Accession No | ML23122A233.
Amendment No | 223.
Brief Description of Amendment(s) | The amendment adopted Technical Specifications Task Force (TSTF) Traveler TSTF-582, Revision 0, RPV [Reactor Pressure Vessel] WIC [Water Inventory Control] Enhancements. The technical specifications related to RPV WIC are revised to incorporate operating experience and to correct errors and omissions in TSTF-542, Revision 2.
Public Comments Received as to Proposed NSHC (Yes/No) | No.
Entergy Operations, Inc.; Arkansas Nuclear One, Units 1 and 2; Pope County, AR
Docket Nos | 50-313, 50-368.
Amendment Date | June 29, 2023.
ADAMS Accession No | ML23142A202.
Amendment Nos | 279 (Unit 1) and 332 (Unit 2).
Brief Description of Amendments | The amendments revised the required number of qualified onsite dose assessors for the on-shift emergency response organization (ERO) in the Arkansas Nuclear One Emergency Plan utilizing the minimum staff ERO guidance specified in NUREG-0654/FEMA-REP-1, “Criteria for Preparation and Evaluation of Radiological Emergency Response Plans and Preparedness in Support of Nuclear Power Plants,” Revision 2.
Public Comments Received as to Proposed NSHC (Yes/No) | No.
Nine Mile Point Nuclear Station, LLC and Constellation Energy Generation, LLC; Nine Mile Point Nuclear Station, Unit 1; Oswego County, NY
Docket No | 50-220.
Amendment Date | June 23, 2023.
ADAMS Accession No | ML23131A424.
Amendment No | 249.
Brief Description of Amendment | The amendment revised Technical Specification (TS) 3.3.1, “Oxygen Concentration,” to adopt the inerting/de-inerting requirements of Technical Specifications Task Force (TSTF) Traveler TSTF-568, Revision 2, “Revise Applicability of BWR [Boiling Water Reactor]/4 TS 3.6.2.5 and TS 3.6.3.2,” which require inerting the primary containment to less than 4 percent by volume oxygen concentration within 72 hours while in the power operating condition.
Public Comments Received as to Proposed NSHC (Yes/No) | No.
Southern Nuclear Operating Company, Inc.; Joseph M. Farley Nuclear Plant, Units 1 and 2; Houston County, AL
Docket Nos | 50-348, 50-364.
Amendment Date | July 3, 2023.
ADAMS Accession No | ML23136B154.
Amendment Nos | 246 (Unit 1) and 243 (Unit 2).
Brief Description of Amendments | By letter dated September 21, 2022, Southern Nuclear Operating Company, Inc. requested changes to the technical specifications (TSs) for Renewed Facility Operating License Nos. NPF-2 and NPF-8 for Joseph M. Farley Nuclear Plant (Farley), Units 1 and 2, respectively. The NRC issued Amendment Nos. 229 and 226, dated October 6, 2020, for Farley, Units 1 and 2, respectively. Those amendments set the values in the Farley, Units 1 and 2, TSs Tables 4.3-1 through 4.3-5. Those values were determined in WCAP-18414-P, Revision 0, “J. M. Farley Units 1 and 2 Spent Fuel Pool Criticality Safety Analysis.” Amendments Nos. 229 and 226 set WCAP-18414-P, Revision 0, as the Analysis of Record (AoR) for both Farley, Units 1 and 2, spent fuel pool (SFP) criticality. Subsequently, SNC found errors in WCAP-18414-P that necessitate changes to Farley, Units 1 and 2, TSs Table 4.3-3 and Table 4.3-4. This amendment makes those changes and will make WCAP-18414-P, Revision 3, the AoR for both Farley, Units 1 and 2, SFP criticality.
Public Comments Received as to Proposed NSHC (Yes/No) | No.
Virginia Electric and Power Company; Surry Power Station, Unit Nos. 1 and 2; Surry County, VA
Docket Nos | 50-280, 50-281.
Amendment Date | June 29, 2023.
ADAMS Accession No | ML23136B139.
Amendment No(s) | 313 (Unit 1) and 313 (Unit 2).
Brief Description of Amendments | The proposed amendments would revise the Surry subsequent renewed facility operating license and technical specification (TS) to make a number of editorial changes and corrections, including removal of the TS and license conditions associated with a one-time plant modification.
Public Comments Received as to Proposed NSHC (Yes/No) | No.

Dated: July 31, 2023.
For the Nuclear Regulatory Commission.
Bo M. Pham,
Director, Division of Operating Reactor Licensing, Office of Nuclear Reactor Regulation.

[FR Doc. 2023-16552 Filed 8-7-23; 8:45 am]

BILLING CODE 7590-01-P